ENVIRONMENTAL PROTECTION AGENCY

[ER-FRL-8799-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009, (74 FR 34754).

Draft EISs

EIS No. 20090192, ERP No. D-FHW-L40238-ID, Idaho 16, I-84 to Idaho 44 Environmental Study, Proposed Action is to Increase the Transportation Capacity, Funding, Ada and Canyon Counties, ID.

Summary: EPA expressed environmental concerns about impacts to air quality, wetlands, floodplains, groundwater and riparian habitat complexes and requested information on public transit, designated non-motorized infrastructure, and demand management to reduce greenhouse gases. Rating EC2.

EIS No. 20090231, ERP No. D-BIA-K60042-CA, Point Molate Mixed-Use Tribal Destination Resort and Casino, Proposed Project is to Strengthen the Tribal Government and Improve the Social Economic Status, Guidiville Band of Pomo Indian of the Guidiville Rancheria (Tribe), City of Richmond, Contra Costa County, CA.

Summary: EPA expressed environmental concerns about the cleanup of onsite contamination and requested additional information regarding enforcement of cleanup orders after the land is taken into Tribal trust. Rating EC2.

EIS No. 20090244, ERP No. D-BLM-K65375-CA, Santa Ana River Wash Land Use Plan Amendment and Land Exchange Project, Proposes to Exchange Land Located within Upper Santa Ana River Wash, for District-Owned Lands in San Bernardino County, CA.

Summary: EPA expressed environmental concerns about potential adverse impacts to wetlands and endangered species. Rating EC2.

EIS No. 20090298, ERP No. D-COE-K39121-CA, Natomas Levee Improvement Program Phase 4a Landside Improvement Project, Issuing of 408 Permission and 404 Permit, California Department of Water Resources (DWR) and the California Central Valley Flood Protection Board, Sutter and Sacramento Counties, CA.

Summary: EPA expressed environmental concerns about air quality conformity and requested that residual flood risk be incorporated into land use planning. Rating EC2.

EIS No. 20090318, ERP No. D-USA-L15000-WA, Fort Lewis Army Growth and Force Structures Realignment, Implementation, Fort Lewis and Yakima Training Center, Kittitas, Pierce, Thurston and Yakima Counties, WA.

Summary: EPA expressed environmental concerns about water quality, biological resources, noise and human health impacts. Rating EC2.

EIS No. 20090308, ERP No. DS-USN-E65055-FL, Renewal of Authorization to Use Pinecastle Range, New Information that was not Available in the 2002 FEIS, Continued Use of the Range for a 20 Year Period, Special Use Permit Issuance, Ocala National Forest, Marion and Lake Counties, FL.

Summary: Based on full implementation of the existing and proposed mitigation measures, EPA has no objection to the proposed action. Rating LO.

EIS No. 20090310, ERP No. DS-AFS-L65455-ID, Small-Scale Suction Dredging in Lolo Creek and Moose Creek Project, Updated Information to Analysis Three Alternatives, Clearwater National Forest, North Fork Ranger District, Clearwater and Idaho Counties, ID.

Summary: EPA expressed environmental concerns about water quality and cumulative impacts, and requested information about the data collected and level of uncertainty regarding conclusions related to water quality. EPA also requested a cumulative effects analysis that considers a temporal scale consistent with the life of this approval and continual dredging over time in the stream channel. Rating EC2.

Final EISs

EIS No. 20090328, ERP No. F-FRC-E03019-00, Phase VIII Expansion Project, Proposed to Construct, Own, Operate, and Maintain New Interstate National Gas Pipeline, Compressor, and Ancillary Facilities in Alabama and Florida.

Summary: EPA expressed environmental concerns about noise aquatic habitat, water resource, and wetland impacts, and requested mitigation for these impacts.

Dated: November 3, 2009.
Ken Mittelholtz,
Deputy Director, NEPA Compliance Division, Office of Federal Activities.

[FR Doc. E9-26825 Filed 11-5-09; 8:45 am]

BILLING CODE 6560-50-P